DEPARTMENT OF TRANSPORTATION

Federal Aviation Administration

Proposed Revisions to Advisory Circular 25.1329-1A, Automatic Pilot Systems Approval

AGENCY: Federal Aviation Administration (FAA), DOT.

ACTION: Notice of proposed advisory circular and request for comments.

SUMMARY: The Federal Aviation Administration invites public comment on proposed revisions to Advisory Circular, AC 25.1329-1A, “Automatic Pilot Systems Approval.”

The revised advisory circular provides guidance for demonstrating compliance with a proposed amendment to 14 CFR 25.1329, published concurrently with this proposed AC. This notice provides interested persons an opportunity to comment on the revised advisory material concurrently with the proposed amendment.

DATE: Comments must be received on or before October 12, 2004.

ADDRESSES: You should send your comments to the Federal Aviation Administration, Transport Airplane Directorate, Attention: Gregg Bartley, Airplane & Flightcrew Interface Branch, ANM-111, Transport Airplane Directorate, Aircraft Certification Service, 1601 Lind Avenue SW., Renton, Washington 98055-4056. You may also fax your comments to 425-227-1149, or you may send your comments electronically to: gregg.bartley@faa.gov. You may review all comments received at the above address between 7:30 a.m. and 4:00 p.m. weekdays, except Federal holidays.

FOR FURTHER INFORMATION CONTACT: Gregg Bartley at the above address, telephone 425-227-2889.

SUPPLEMENTARY INFORMATION:

How Do I Obtain a Copy of the Proposed Advisory Circular?

You may obtain an electronic copy of the proposed advisory circular at the following Internet address: http://www.airweb.faa.gov/rgl. If you do not have access to the Internet, you may request a copy by contacting Gregg Bartley at the address or phone number listed earlier in this announcement.

How Do I Submit Comments on the Proposed Advisory Circular?

You are invited to comment on the proposed AC by submitting written comments, data, or views. You must identify the AC by title and submit your comments in duplicate to the address specified above. We will consider all comments received on or before the closing date for comments before issuing the final AC.

Discussion

By separate notice published in this same issue of the Federal Register, the FAA proposes to amend 14 CFR 25.1329, “Automatic Pilot System,” to update the regulation. Currently, § 25.1329 addresses only the autopilot system on transport category airplanes. The proposed amendment would consolidate and standardize regulations for all flight guidance functions, including the autopilot, autothrust, and flight director as well as any interactions with stability augmentation and trim functions.

The proposed revised Advisory Circular—AC 25.1329-IX—would provide guidance for demonstrating compliance with the proposed amendment. The means of compliance described in the proposed AC provides guidance to supplement the engineering and operational judgment that must form the basis of any compliance findings on the structural and functional safety standards for doors and their operating systems.

Harmonization of Standards and Guidance

The proposed AC is based on recommendations submitted to the FAA by the Aviation Rulemaking Advisory Committee (ARAC). The FAA tasked ARAC to provide advice and recommendations on “harmonizing” certain sections of part 25 with the counterpart standards contained in Joint Aviation Requirements (JAR) 25. The goal of “harmonization tasks,” such as this, is to ensure that:

• Where possible, standards and guidance do not require domestic and foreign parties to manufacture or operate to different standards for each country involved; and

• The standards and guidance adopted are mutually acceptable to the FAA and the foreign aviation authorities.

The guidance contained in the proposed AC has been harmonized with that of the JAA, and provides a method of compliance that has been found acceptable to both the FAA and JAA.

Issuance of the proposed AC is contingent on final adoption of the proposed changes to14 CFR 25.1329.

Issued in Renton, Washington.
Ali Bahrami,
Manager, Transport Airplane Directorate, Aircraft Certification Service.

[FR Doc. 04-18352 Filed 8-12-04; 8:45 am]

BILLING CODE 4910-13-P